DEPARTMENT OF ENERGY

10 CFR Part 851

[DOE-HQ-2025-0243]

RIN 1901-AB74

Worker Safety and Health Requirements To Support Reform of Nuclear Reactor Testing; Reopening of Public Comment Period

AGENCY: Office of Nuclear Energy, U.S. Department of Energy.

ACTION: Notice of proposed rulemaking; reopening of public comment period.

SUMMARY: On January 21, 2026, the U.S. Department of Energy (“DOE”) published a notice of proposed rulemaking (“NOPR”) seeking to amend certain regulations for worker safety and health to expedite the review, approval, and deployment of advanced reactors under DOE's jurisdiction, including qualified test reactors in DOE's reactor pilot program consistent with a recent Executive order. The NOPR provided an opportunity for submitting written comments, data, and information by February 20, 2026. By letter dated February 4, 2026, the American Federation of Labor and Congress of Industrial Organizations (“AFL-CIO”) requested a 45-day extension to the comment period. DOE has reviewed this request and is re-opening the public comment period until March 23, 2026.

DATES: The comment period for the NOPR published on January 21, 2026 (91 FR 2498) is reopened. Written comments, data and information regarding the NOPR will be accepted on or before March 23, 2026.

ADDRESSES: Interested persons are encouraged to submit comments using the Federal eRulemaking Portal at www.regulations.gov under docket number DOE-HQ-2025-0243. Follow the instructions for submitting comments.

Docket: The docket for this activity, which includes Federal Register notices, public meeting attendee lists and transcripts (if a public meeting is held), comments, and other supporting documents/materials, is available for review at www.regulations.gov. All documents in the docket are listed in the www.regulations.gov index. However, not all documents listed in the index may be publicly available, such as information that is exempt from public disclosure.

The docket web page can be found at www.regulations.gov/docket/DOE-HQ-2025-0243. The docket web page contains instructions on how to access all documents, including public comments, in the docket.

FOR FURTHER INFORMATION CONTACT: Mr. Daryn Moorman, U.S. Department of Energy, Idaho Operations Office, 1955 N Freemont Avenue, Idaho Falls, ID 83415, Telephone: (208) 526-0111, Email: 851comments@id.doe.gov.

SUPPLEMENTARY INFORMATION: On January 21, 2026, DOE published a notice of proposed rulemaking (“NOPR”) that would amend its regulations for worker safety and health contained in 10 CFR part 851 (Worker Safety and Health Program). The proposal sought to revise these regulations to enable DOE to expedite the review, approval, and deployment of advanced reactors under DOE's jurisdiction, including qualified test reactors in DOE's reactor pilot program. These actions would be made consistent with Executive Order 14301, Reforming Nuclear Reactor Testing at the Department of Energy, which was issued on May 23, 2025. (90 FR 22591) The NOPR sought comment on the proposal by February 20, 2026

By letter dated February 4, 2026, DOE received a request from the American Federation of Labor and Congress of Industrial Organizations (“AFL-CIO”) seeking a 45-day extension to the comment period. The AFL-CIO asserted that the potential effects of DOE's proposed rulemaking are complex in nature and that additional time is needed for careful review and coordination across the organization's various affiliates to establish thorough and informed comments.¹

¹ DOE is also aware of at least two other requests for additional time.

DOE has reviewed the request and considered the benefit of allowing interested parties additional time to submit comments regarding the January 2026 NOPR. Accordingly, while DOE is confident that the AFL-CIO and other commenters had sufficient time to provide complete comments by February 20th, DOE is reopening the comment period until March 23, 2026.

Signing Authority

This document of the Department of Energy was signed on February 24, 2026, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 24, 2026.
Treena V. Garrett,
Federal Register Liaison Officer, U.S. Department of Energy.

[FR Doc. 2026-03866 Filed 2-25-26; 8:45 am]

BILLING CODE 6450-01-P